DEPARTMENT OF HEALTH AND HUMAN SERVICES

National Committee on Vital and Health Statistics: Meeting

Pursuant to the Federal Advisory Committee Act, the Department of Health and Human Services Announces the Following Advisory Committee Meeting

Name: National Committee on Vital and Health Statistics (NCVHS), Subcommittee on Standards and Security.

Time and Date: 9 a.m. to 5 p.m., April 9, 2002;9 a.m. to 3 p.m., April 10, 2002.

Place: Hubert H. Humphrey Building, Room 800, 200 Independence Avenue, SW., Washington, DC.

Status: Open.

Purpose: This meeting will be conducted as a hearing. The Subcommittee will hear testimony and discussion on two topics: One, the potential replacement of the International Classification of Diseases, Ninth Revision, Clinical Modification (ICD-9-CM) Volume 3 (procedures) with the International Classification of Diseases Procedure Coding System (ICD-10-PCS); and two, gaps in the current Health Insurance Portability and Accountability Act of 1996 (HIPAA) medical data code sets.

For More Information Contact: Substantive program information as well as summaries of meetings and a roster of Committee members may be obtained from Karen Trudel, Senior Technical Advisor, Security and Standards Group, Centers for Medicare and Medicaid Services, MS: N2-14-17, 7500 Security Boulevard, Baltimore, MD 21244-1850, telephone: 410-786-9937; or Marjorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS Web site: http://www.ncvhs.hhs.gov/ were an agenda for the meeting will be posted when available.

Dated: March 19, 2002.
James Scanlon,
Director, Division of Data Policy, Office of the Assistant Secretary for Planning and Evaluation.

[FR Doc. 02-7214 Filed 3-25-02; 8:45 am]

BILLING CODE 4151-05-M